COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from Procurement List.

SUMMARY: The Committee has received proposals to add to the Procurement List commodities and services to be furnished by nonprofit agencies employing persons who are blind or have other severe disabilities, and to delete commodities and services previously furnished by such agencies.

COMMENTS MUST BE RECEIVED ON OR BEFORE: March 6, 2000.

ADDRESSES: Committee for Purchase From People Who Are Blind or Severely Disabled, Crystal Gateway 3, Suite 310, 1215 Jefferson Davis Highway, Arlington, Virginia 22202-4302.

FOR FURTHER INFORMATION CONTACT: Leon A. Wilson, Jr. (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed additions, all entities of the Federal Government (except as otherwise indicated) will be required to procure the commodities and services listed below from nonprofit agencies employing persons who are blind or have other severe disabilities. I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited. Commenters should identify the statement(s) underlying the certification on which they are providing additional information.

The following commodities and services have been proposed for addition to Procurement List for production by the nonprofit agencies listed:

Commodities

Line, Multi-Loop

1670-01-062-6305

NPA: Industrial Opportunities, Inc., Marble, North Carolina

Thumbtacks, Maptacks and Pushpins

7510-00-272-6886 (Thumbtacks)

7510-00-272-6887 (Thumbtacks)

7510-00-272-3099 (Maptacks)

7510-00-285-5844 (Maptacks)

7510-00-940-0935 (Pushpins)

NPA: Delaware County Chapter, NYSARC, Walton, New York

Services

Base Supply Center, Operation of Individual Equipment Element Store and HAZMART, McConnell Air Force Base, Kansas

NPA: Envision, Inc.,Wichita, Kansas

Commissary Shelf Stocking, Custodial and Warehousing, Fort Hamilton Commissary, Brooklyn, New York

NPA: Goodwill Industries of Greater New York, Astoria, New York

Food Service Attendant, Air National Guard Base, 50 Sabre Street, Battle Creek, Michigan

NPA: Calhoun County Community Mental Health Services Board, Battle Creek, Michigan

Grounds Maintenance, U.S. Army Reserve Center, Worcester, Massachusetts

NPA: Seven Hills Occupational & Rehabilitation Services, Inc., Worcester, Massachusetts

Janitorial/Custodial, 126th Air Refueling Wing, Scott Air Force Base, Illinois

NPA: St. Clair Associated Vocational Enterprises, Inc., Belleville, Illinois

Janitorial/Custodial, U.S. Army Reserve Center, OMS, Kittanning, Kittanning, Pennsylvania

NPA: ICW Vocational Services, Inc., Indiana, Pennsylvania

Office Supply Store, Main Interior Building, 1849 C Street, NW, Washington, DC

NPA: Blind Industries & Services of Maryland, Baltimore, Maryland

Operation of Individual Equipment Element Store, Eielson Air Force Base, Alaska

NPA: Raleigh Lions Clinic for the Blind, Inc., Raleigh, North Carolina

Operation of Individual Equipment Element Store, Youngstown Air Reserve Station, 910th Air Lift Wing, Vienna, Ohio

NPA: North Central Sight Services, Inc., Williamsport, Pennsylvania

Telephone Switchboard Operations, Dyess Air Force Base, Texas

NPA: San Antonio Lighthouse, San Antonio, Texas

Deletions

I certify that the following action will not have a significant impact on a substantial number of small entities. The major factors considered for this certification were:

1. The action will not result in any additional reporting, recordkeeping or other compliance requirements for small entities.

2. The action will result in authorizing small entities to furnish the commodities and services to the Government.

3. There are no known regulatory alternatives which would accomplish the objectives of the Javits-Wagner-O'Day Act (41 U.S.C. 46-48c) in connection with the commodities and services proposed for deletion from the Procurement List.

The following commodities and services have been proposed for deletion from the Procurement List:

Commodities

Amplifier Subassembly

5831-00-087-3408

Kit, Shaving, Surgical Preparation

6530-00-676-7372

Specimen Kit, Urine

6530-00-075-6636

Pillowcase, Disposable

6532-01-125-3269

Aerosol Paint, Lacquer

8010-00-721-9483

Enamel, Lacquer

8010-00-852-9034

8010-00-616-9144

8010-00-878-5761

8010-00-764-8434

8010-00-782-9356

Enamel, Aerosol, Waterbase

8010-01-363-1632

Services

Commissary Shelf Stocking, Naval Training Center, San Diego, California

Commissary Shelf Stocking & Custodial, Oakland Army Base, Oakland, California

Food Service, McClellan Air Force Base, California

Grounds Maintenance, Oakland Fleet Industrial Supply Center, Oakland, California

Grounds Maintenance, Naval Station, Treasure Island, California

Grounds Maintenance, Mare Island Naval Complex and Roosevelt Terrence, (except the Combat Systems Technical School Command), Mare Island Naval Shipyard, Vallejo, California

Janitorial/Custodial, Naval Supply Center, for the following locations in Alameda, California: DRMO Bldgs 4 & 5 (Floor 1), Defense Subsistence Region Pacific, Warehouse 1, Building 6 (Floors 1 & 2), Building 7

Naval Regional Contracting Center, Building 6 (Floor 2)

Janitorial/Custodial, Naval Air Reserve, Moffett Field, California

Janitorial/Grounds Maintenance, U.S. Federal Building, 823 Marin Street, Vallejo, California

Painting Service, McClellan Air Force Base, California

Vehicle Maintenance, McClellan Air Force Base, California

Louis R. Bartalot,
Deputy Director (Operations).

[FR Doc. 00-2490 Filed 2-3-00; 8:45 am]

BILLING CODE 6353-01-P